INTERNATIONAL TRADE COMMISSION

[USITC SE-01-012]

Sunshine Act Meeting

AGENCY HOLDING THE MEETING: International Trade Commission.

TIME AND DATE: April 9, 2001 at 2:00 p.m.

PLACE: Room 101, 500 E Street SW., Washington, DC 20436, Telephone: (202) 205-2000.

STATUS: Open to the public.

MATTERS TO BE CONSIDERED:

1. Agenda for future meeting: none

2. Minutes

3. Ratification List

4. Inv. Nos. 731-TA-703 and 705 (Review)(Furfuryl Alcohol from China and Thailand)—briefing and vote. (The Commission is currently scheduled to transmit its determination and Commissioners' opinions to the Secretary of Commerce on April 20, 2001.)

5. Outstanding action jackets: none.

In accordance with Commission policy, subject matter listed above, not disposed of at the scheduled meeting, may be carried over to the agenda of the following meeting.

Issued: March 28, 2001.
By order of the Commission.
Donna R. Koehnke,
Secretary.

[FR Doc. 01-8264 Filed 3-30-01; 12:24 pm]

BILLING CODE 7020-02-U